DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by November 21, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Pecan Promotion, Research, and Information Program.

OMB Control Number: 0581-0328.

Summary of Collection: The Pecan Promotion, Research, and Information program was created to help strengthen the position of pecans in the marketplace, maintain and expand markets for pecans, and develop new uses for pecans. The Pecan Promotion, Research, and Information Order (Order) (7 CFR part 1223) is authorized under the Commodity Promotion, Research, and Information Act of 1996 (1996 Act) (7 U.S.C. 7411-7425).

The Order became effective on February 12, 2021. Currently, the Pecan program is administered by the American Pecan Promotion Board (Board) which is appointed by the Secretary of Agriculture and financed by a mandatory assessment on producers and importers of inshell and shelled pecans. The assessment rate is levied at $0.02 per pound on all inshell pecans and $0.04 per pound on all shelled pecans. The program provides an exemption for producers and importers that produce or import fewer than 50,000 pounds of inshell pecans (25,000 pounds of shelled pecans) on average for four fiscal periods (the fiscal period for which the exemption is claimed and the previous three fiscal periods).

Need and Use of the Information: The information collection requirements in this request are essential to carry out the intent of the 1996 Act and the Order. The objective in carrying out this responsibility includes assuring the following: (1) funds are collected and properly accounted for; (2) expenditures of all funds are for the purposes authorized by the 1996 Act and Order; and (3) the board's administration of the programs conforms to USDA policy. Such information can be supplied without data processing equipment or outside technical expertise. In addition, there are no additional training requirements for individuals filling out reports and remitting assessments to the Board.

The information collected is used only by authorized representatives of the USDA's regional and headquarters staff, and authorized Board employees. Authorized Board employees and the industry are the primary users of the information, and AMS is the secondary user.

Description of Respondents: Businesses or other for-profits; Farms.

Number of Respondents: 725.

Frequency of Responses: Annually.

Total Burden Hours: 2,861.

Levi S. Harrell,
Departmental Information Collection Clearance Officer.

[FR Doc. 2024-24448 Filed 10-21-24; 8:45 am]

BILLING CODE 3410-02-P